DEPARTMENT OF ENERGY

Federal Energy Regulatory Commission

[Docket No. IC05-724-000, FERC-724]

Proposed Information Collection and Request for Comments

December 10, 2004.

AGENCY: Federal Energy Regulatory Commission.

ACTION: Request for Office of Management and Budget emergency processing of proposed information collection and request for comments.

SUMMARY: The Federal Energy Regulatory Commission (Commission) is providing notice of its request to the Office of Management and Budget (OMB) for emergency processing of a proposed collection of information in connection with the training of operators of the bulk power system, and is soliciting public comment on that information collection.

DATES: The Commission and OMB must receive comments on or before December 20, 2004.

ADDRESSES: Send comments to:

(1) John Asalone, FERC Desk Officer, Office of Information and Regulatory Affairs, Office of Management and Budget. Mr. Asalone may be reached by telephone at (202) 395-4650 or by fax at (202) 395-7285 and

(2) Michael Miller, Office of the Executive Director, ED-30, Federal Energy Regulatory Commission, 888 First Street, NE., Washington, DC 20426. Mr. Miller may be reached by telephone at (202) 502-8415 and by e-mail at michael.miller@ferc.gov.

FOR FURTHER INFORMATION CONTACT: Christy Walsh, Office of the General Counsel, Federal Energy Regulatory Commission. Ms. Walsh may be reached by telephone at (202) 502-6523 and by e-mail at christy.walsh@ferc.gov.

SUPPLEMENTARY INFORMATION: On August 14, 2003, an electric power blackout occurred over large portions of the Northeast and Midwest United States and Ontario, Canada. The power blackout lasted up to two days in some areas of the United States and for a longer period of time in some areas of Canada. It affected an area with over 50 million people and 61,800 megawatts of electric load. In the wake of the blackout, a joint U.S.-Canada Power System Outage Task Force (Task Force) undertook a study of the causes of that blackout and possible solutions to avoid future such blackouts.

On April 5, 2004, the Task Force issued the Final Report on the August 14, 2003 Blackout in the U.S. and Canada (Blackout Report). The report found that a major cause of the August 14, 2003 electric power blackout was that control area operators had not received adequate training in recognizing and responding to system emergencies. Most notable was the lack of realistic simulations and drills to train and verify the capabilities of operating personnel. Such simulations are essential if operators and other staff are to be able to respond adequately to emergencies. This training deficiency contributed to the lack of situational awareness and failure to declare an emergency on August 14, 2003 while operator intervention was still possible (before events began to occur at a peed beyond human control). This failure has been a common factor that has contributed to the August 14, 2003 blackout and many previous regional electric system outages.

The Commission intends to issue an order that requires surveys to be answered by power system operators, whether or not they are otherwise subject to the Commission's jurisdiction as a public utility, containing questions intended to evaluate the status of training throughout the industry, identify best practices and determine minimum requirements for operator training within the industry. The survey will be sent to no more than 160 transmission grid operators. The participants selected will include transmission providers and control area operators to identify training deficiencies and opportunities for improved training in the bulk power sector. The Commission will analyze the data and provide a timely report to Congress on the need for legislation to ensure the reliability of the U.S. bulk power system.

Section 311 of the Federal Power Act, 16 U.S.C. 825j (2000), authorizes the Commission to conduct investigations in order to secure information necessary or appropriate as a basis for recommending legislation. Section 311 makes clear that the Commission's authority in conducting an investigation extends to entities that are otherwise not subject to the Commission's jurisdiction “including the generation, transmission, distribution, and sale of electric energy by any agency, authority, or instrumentality of the United States, or of any State or municipality * * *.” The information collected from this survey will be reflected in a Commission report to Congress on the need for legislation on the reliability of the nation's interstate bulk electric systems, consistent with section 311 of the FPA.

In the Blackout Report, the Task Force noted severe limitations in training for operators, reliability, coordinators, and operator support staff. Due to the inadequacies of power system operator training that have contributed to multiple system outages, one of the recommendations of the Blackout Report is for greater near-term and long-term training and certification requirements for operators, reliability coordinators, and operator support staff (Recommendation 19c). The Task Force specifically recommended the commission of an advisory report by an independent panel to address a wide range of issues concerning reliability training programs and certification requirements. It concluded that the independent panel should delver the advisory report by March 31, 2005, “under the oversight of FERC and appropriate Canadian authorities.” The Commission and Canadian authorities, in consultation with the North American Electric Reliability Council (NERC) and other, should evaluate the report and consider its findings in evaluating minimum training and certification requirements for control areas and reliability coordinators.

Since the release of the Blackout Report in April 2004, only limited action has been taken in addressing the issue of operator training. As a consequence, while it was initially contemplated that the Commission's role would be strictly one of oversight, the Commission has now stepped in to take a leadership role by commissioning and managing an industry survey to determine both minimally acceptable and best practices for operator training in the same time frame recommended by the Task Force. The Commission must act quickly to meet the target set out by the Task Force. The information the Commission is seeking in the operator training survey is an important facet in achieving the overarching goal of ensuring safe and reliable operation of the transmission system. In light of the urgency of moving forward with the survey, the ability to collect this information prior to the expiration of a normal OMB 60-day review time frame is essential to the mission of the Commission, and as such, the Commission has requested emergency processing of this proposed information collection. Because the Commission requires the survey results as soon as possible, the Commission will require completion of the survey by January 31, 2005.

The Commission will refer to the reports being requested as FERC Form 724: Bulk Power System Operator Training Survey. Respondent would provide a one-time-only completed survey no later than January 31, 2005. The survey, which is patterned after a survey prepared by the Department of Energy to address operator training standards in the nuclear industry, is designed to determine:

• Educational methods.

• Training and certification approaches.

• Re-certification procedures.

• Use of simulator-based training.

• Required hours of annual training for emergency and normal operations.

• Staffing levels.

• Communication levels.

The Complete survey is available at http://www.ferc.gov.industries/electric/indus-act/reliability/2004-sys-op-survey.pdf.

The Commission estimates that no more than 160 entities will be the subject of this reporting request with the survey going out to approximately eight different personnel at each chosen entity and that it would take each entity no more than 2 hours to complete the survey—larger entities may require additional respondents while smaller entities will likely have fewer respondents. Therefore, the total number of hours it would take to comply with the reporting requirement would be 320. The Commission estimates a total cost of $18,720 to respondents at $58.50 per hour, based on salaries for professional and clerical staff, as well as direct and indirect overhead costs.

The Commission has submitted this reporting requirement to OMB for approval. OMB's regulations describe the process that federal agencies must follow in order to obtain OMB approval of reporting requirements. See 5 CFR part 1320. The standards for emergency processing of information collections appear at 5 CFR 1320.13. If OMB approves a reporting requirement, then it will assign an information collection control number to that requirement. If a request for information subject to OMB review has not been given a valid control number, then the recipient is not required to respond.

OMB required federal agencies seeking approval of reporting requirements to allow the public an opportunity to comment on the proposed reporting requirement. 5 CFR 1320.5(a)(1)(iv). Therefore, the Commission is soliciting comment on:

(1) Whether the collection of information is necessary for the proper performance of the Commission's functions, including whether the information will have practical utility;

(2) The accuracy of the Commission's estimate of the burden of the collection of this information, including the validity of the methodology and assumptions used;

(3) The quality, utility, and clarity of the information to be collected; and

(4) How to minimize the burden of the collection of this information on respondents, including the use of appropriate automated electronic, mechanical, or other forms of information technology.

C.B. Spencer,
Acting Secretary.

[FR Doc. 04-27463 Filed 12-13-04; 8:45 am]

BILLING CODE 6717-01-P